DEPARTMENT OF TRANSPORTATION

Federal Aviation Administration

14 CFR Part 71

[Docket No. FAA-2004-18820; Airspace Docket No. 04-ACE-46]

Modification of Class E Airspace; Kennett, MO

AGENCY: Federal Aviation Administration (FAA), DOT.

ACTION: Direct final rule; request for comments; correction.

SUMMARY: This action corrects a direct final rule; request for comments that was published in the Federal Register on Tuesday, September 28, 2004, (69 FR 57839) [FR Doc. 04-21736]. It corrects an error in the legal description of the Class E airspace area extending upward from 700 feet above the surface at Kennett, MO.

DATES: This direct final rule is effective on 0901 UTC, January 20, 2005.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

Federal Register Document 04-21736, published on Tuesday, September 28, 2004, (69 FR 57839) modified the Class E airspace area extending upward from 700 feet above the surface at Kennett, MO. The modification expanded the airspace area to protect for diverse departures, redefined the extension to the Class E airspace area in terms of the 003° bearing from the Kennett nondirectional radio beacon (NDB), decreased the length and width of the extension, corrected the location of the NDB in the legal description and corrected the Kennett Memorial Airport reference point (ARP) used in the legal description. However, publication of a revised Kennett Memorial Airport ARP in the National Flight Data Digest on November 8, 2004, requires a further revision to the Kennett, MO Class E airspace areas.

Accordingly, pursuant to the authority delegated to me, the legal description of the Class E airspace area extending upward from 700 feet above the surface at Kennett, MO, as published in the Federal Register on Tuesday, September 28, 2004, (69 FR 57839) [FR Doc. 04-21736] is corrected as follows:

§ 71.1 [Corrected]

On page 57840, Column 2, last paragraph, third line, change “(Lat. 36°13′49″ N., long. 90°02′04″ W.)” to read: “(Lat. 36°13′33″ N., long. 90°02′12″ W.)”

Issued in Kansas City, MO, on November 8, 2004.
Anthony D. Roetzel,
Acting Area Director, Western Flight Services Operations.

[FR Doc. 04-26100 Filed 11-24-04; 8:45 am]

BILLING CODE 4910-13-M